DEPARTMENT OF STATE

[Public Notice 3738]

Fine Arts Committee; Notice of Meeting

The Fine Arts Committee of the Department of State will meet on Friday, September 28, 2001 at 3:00 p.m. in the Henry Clay Room. The meeting will last until approximately 4:30 p.m. and is open to the public.

The agenda for the committee meeting will include a summary of the work of the Fine Arts Office since its last meeting on March 31, 2001 and the announcement of gifts of furnishings as well as financial contributions from January 1 through August 30, 2001. Public access to the Department of State is strictly controlled. Members of the public wishing to take part in the meeting should telephone the Fine Arts Office by September 17, 2001, telephone (202) 647-1990 to make arrangements to enter the building. The public may take part in the discussion as long as time permits and at the discretion of the chairman.

Dated: July 31, 2001.
Gail F. Serfaty,
Vice Chairman, Fine Arts Committee, Department of State.

[FR Doc. 01-20014 Filed 8-8-01; 8:45 am]

BILLING CODE 4710-38-P